DEPARTMENT OF STATE

[Public Notice: 12718]

Notice of Charter Renewal for the U.S. Advisory Commission on Public Diplomacy

SUMMARY: The Department of State has renewed the Charter for the U.S. Advisory Commission on Public Diplomacy (ACPD).

FOR FURTHER INFORMATION CONTACT: For further information about the Commission, please contact Sarah E. Arkin, the Commission's Designated Federal Officer and Executive Director, at 202-472-8198; email: ArkinSE@state.gov.

SUPPLEMENTARY INFORMATION: The Commission was originally established under Section 604 of the United States Information and Educational Exchange Act of 1948, as amended, and under Section 8 of Reorganization Plan Number 2 of 1977. It was permanently reauthorized pursuant to Section 5604 of the National Defense Authorization Act, Fiscal Year 2022 (Pub. L. 117-81), which amended Section 1134 of the Foreign Affairs Reform and Restructuring Act of 1998 (22 U.S.C. 6553). It is operated in accordance with the Federal Advisory Committee Act, 5 U.S.C. 1001 et seq. (FACA), to the extent that FACA is not inconsistent with the Commission's authorizing legislation.

The Charter was renewed on April 21, 2025.

Authority: 22 U.S.C. 2651a, 22 U.S.C. 1469, 5 U.S.C. 1001 et seq., and 41 CFR 102-3.150.

Sarah E. Arkin,
Executive Director, U.S. Advisory Commission on Public Diplomacy, Department of State.

[FR Doc. 2025-07966 Filed 5-6-25; 8:45 am]

BILLING CODE 4710-45-P